DEPARTMENT OF EDUCATION

[CFDA No.: 84.224C]

Assistive Technology Act of 1998, as Amended—Assistive Technology Alternative Financing Program

AGENCY: Office of Special Education and Rehabilitative Services, Department of Education.

ACTION: Notice of intent to fund down the grant slate for the Assistive Technology Act of 1998, as Amended (AT Act)—Assistive Technology Alternative Financing Program (AFP).

SUMMARY: The Secretary intends to use the grant slate developed for the AT Act AFP in Fiscal Year (FY) 2005 to make new grant awards in FY 2006. The Secretary takes this action because a significant number of high-quality applications remain on the last year's grant slate and limited funding is available for new grant awards in FY 2006.

FOR FURTHER INFORMATION CONTACT: Jeremy Buzzell, U.S. Department of Education, 400 Maryland Avenue, SW., room 5025, Potomac Center Plaza, Washington, DC 20202-2800. Telephone: (202) 245-7319.

If you use a telecommunications device for the deaf (TDD), you may call the Federal Relay Service (FRS) at 1-800-877-8339.

Individuals with disabilities may obtain this document in an alternative format (e.g., Braille, large print, audiotape, or computer diskette) on request to the program contact person listed in this section.

SUPPLEMENTARY INFORMATION:

Background

On June 30, 2005, we published a notice in the Federal Register (70 FR 37794) inviting applications for new awards under the AT Act AFP. This notice indicated that the selection criteria, absolute priority, competitive preference priorities, and application requirements contained in the notice would apply to the FY 2005 grant competition only.

We received a significant number of applications for AFP grants in FY 2005 and made eight new grant awards. Because some applications that met the same standard as those that received funding did not receive funding last year and limited funding is available for new awards under this program in FY 2006, we intend to select grantees in FY 2006 from the existing slate of applicants. This slate was developed during the FY 2005 competition using the selection criteria, absolute priority, competitive preference priorities, and application requirements included in the June 30, 2005, notice. No changes to the selection criteria, absolute priority, competitive preference priorities, or application requirements will be required by this action.

Program Authority: 29 U.S.C. 3001 et seq.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 21, 2006.
John H. Hager,
Assistant Secretary for Special Education and Rehabilitative Services.

[FR Doc. E6-6340 Filed 4-26-06; 8:45 am]

BILLING CODE 4000-01-P